FEDERAL COMMUNICATIONS COMMISSION

Public Information Collection(s) Approved by Office of Management and Budget

AGENCY: Federal Communications Commission.

ACTION: Notice.

SUMMARY: The Federal Communications Commission has received approval from the Office of Management and Budget (OMB) for the public information collection, OMB Control Number 3060-0185, Section 73.3613, Filing of Contracts. The approval was received on December 21, 2004.

DATES: Effective December 21, 2004.

FOR FURTHER INFORMATION CONTACT: Erin Dozier, Media Bureau, (202) 418-7200.

SUPPLEMENTARY INFORMATION: The Federal Communications Commission has received OMB approval for OMB Control Number 3060-0185. The effective date for this collection is December 21, 2004. The expiration date is May 31, 2005. Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning these revised information collections should be directed to Cathy Williams, Federal Communications Commission, (202) 418-2918 or via the Internet at Cathy.Williams@fcc.gov.

Federal Communications Commission.
William F. Caton,
Deputy Secretary.

[FR Doc. 04-28742 Filed 12-30-04; 8:45 am]

BILLING CODE 6712-01-P